ENVIRONMENTAL PROTECTION AGENCY

[FRL-8903-2]

Clean Air Act Operating Permit Program; Petition for Objection to State Operating Permit for CEMEX, Inc.—Lyons Cement Plant

AGENCY: Environmental Protection Agency (EPA).

ACTION: Notice of final action.

SUMMARY: This document announces that the EPA Administrator has responded to a citizen petition asking EPA to object to an operating permit issued by the Colorado Department of Public Health and Environment (CDPHE). Specifically, the Administrator has partially granted and partially denied the March 21, 2008 petition, submitted by Rocky Mountain Clean Air Action (Petitioner), to object to the March 1, 2008 operating permit issued to CEMEX, Inc. to operate the Lyons Cement Plant.

Pursuant to section 505(b)(2) of the Clean Air Act (Act), Petitioners may seek judicial review of those portions of the petitions, which EPA denied in the United States Court of Appeals for the appropriate circuit. Any petition for review shall be filed within 60 days from the date this notice appears in the Federal Register, pursuant to section 307 of the Act.

ADDRESSES: You may review copies of the final order, the petition, and other supporting information at the EPA Region 8 Office, 1595 Wynkoop Street, Denver, Colorado 80202-1129. EPA requests that if at all possible, you contact the individual listed in the FOR FURTHER INFORMATION CONTACT section to view the copies of the final order, the petition, and other supporting information. You may view the hard copies Monday through Friday, 8 a.m. to 4 p.m., excluding Federal holidays. If you wish to examine these documents, you should make an appointment at least 24 hours before visiting day. Additionally, the final order for CEMEX, Inc, is available electronically at: http://www.epa.gov/region07/programs/artd/air/title5/petitiondb/petitions/cemex_response2009.pdf

FOR FURTHER INFORMATION CONTACT: Donald Law, Office of Partnerships and Regulatory Assistance, EPA, Region 8, 1595 Wynkoop Street, Denver, Colorado 80202-1129, (303) 312-7015, law.donald@epa.gov.

SUPPLEMENTARY INFORMATION: The Act affords EPA a 45-day period to review, and object to as appropriate, a Title V operating permit proposed by State permitting authorities. Section 505(b)(2) of the Act authorizes any person to petition the EPA Administrator, within 60 days after the expiration of this review period, to object to a Title V operating permit if EPA has not done so. Petitions must be based only on objections to the permit that were raised with reasonable specificity during the public comment period provided by the State, unless the petitioner demonstrates that it was impracticable to raise these issues during the comment period or the grounds for the issues arose after this period.

On March 21, 2008, EPA received a petition from Rocky Mountain Clean Air Action requesting that EPA object to the issuance of the Title V operating permit to CEMEX, Inc. for the operation of the Lyons Cement Plant. First, the Petitioner alleges that the CEMEX, Inc. Lyons Cement Plant modified the Plant without including emission limits and standards that represent Best Achievable Control Technology (BACT) and Lowest Achievable Emission Rate (LAER) consistent with the Prevention of Significant Deterioration (PSD) and the Nonattainment New Source Review (NA NSR) provisions. In addition, the Petitioner alleges that the Title V permit fails to include a compliance plan to bring the plant into compliance with emission limits that represent BACT and LAER. The Petitioner alleges a compliance plan is necessary and cites to the Notice of Violation (NOV) EPA issued to CEMEX on March 28, 2007. EPA issued the NOV to CEMEX alleging violations, in part, of regulations for PSD and NA NSR. Second, the Petitioner raises several allegations of PSD and NSR violations in addition to those alleged in the EPA NOV. Specifically, Petitioner alleged that there were six kiln modifications and three dryer modifications that violated PSD and NA NSR requirements.

On April 20, 2009, the Administrator issued an order partially granting and partially denying the petition. The order explains the reasons behind EPA's conclusion to partially grant and partially deny the petition for objection.

Dated: May 1, 2009.
Stephen S. Tuber,
Acting Regional Administrator, Region 8.

[FR Doc. E9-10966 Filed 5-8-09; 8:45 am]

BILLING CODE 6560-50-P